DEPARTMENT OF HEALTH AND HUMAN SERVICES

Administration for Children and Families

Submission for OMB Review; National Advisory Committee (NAC) Recommendations and State Self-Assessment Survey (OMB #0970-0560)

AGENCY: Office on Trafficking in Persons, Administration for Children and Families, Health and Human Services (HHS).

ACTION: Request for public comment.

SUMMARY: The Administration for Children and Families (ACF) is requesting an extension to continue use of an existing information collection: The National Advisory Committee on the Sex Trafficking of Children and Youth in the United States (NAC) Recommendations and State Self-Assessment Survey (0970-0560). No changes are proposed.

DATES: Comments due within 60 days of publication. In compliance with the requirements of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street, SW, Washington, DC 20201, Attn: ACF Reports Clearance Officer. All requests, emailed or written, should be identified by the title of the information collection.

SUPPLEMENTARY INFORMATION: Description: The Preventing Sex Trafficking and Strengthening Families Act of 2014 mandated the NAC to develop a report describing how each state has implemented its recommendations to address sex trafficking in children and youth. The NAC proposed to administer a survey allowing states to assess their progress in implementing NAC recommendations. Submissions allow states to document their efforts in the following sections: Multidisciplinary Response, Screening and Identification, Child Welfare, Service Provision, Housing, Law Enforcement and Prosecution, Judiciary, Demand Reduction, Prevention, Legislation and Regulation, Research and Data, and Funding. Each state will have the opportunity to provide a self-assessed tier ranking for each recommendation, a justification of their assessment, sources for their assessment, and the public or private nature of those sources. The survey was initially launched in March 2021 with a due date in June 2021. We are requesting an extension to allow states ample time to collaborate and compile their responses. There are no changes proposed.

Respondents: State Governors, child welfare agencies, local law enforcement, and other local agencies.

Annual Burden Estimates: Each state is responsible for collaborating with governors, law enforcement agencies, prosecutors, courts, child welfare agencies, and other local agencies and relevant groups to provide their self-assessment of their state's implementation efforts. The opportunity burden is calculated below, assuming five respondents for each state:

Table 1—Opportunity Burden
Instrument | Total number of respondents contributing for 50 states | Total number of responses per respondent | Average burden hours per response | Total/annual burden hours
NAC Recommendations and State Self-Assessment Survey | 250 | 1 | 6.85 | 1,713
Estimated Opportunity Burden Totals |  |  |  | 1,713

Estimated Total Annual Opportunity Burden Hours: 1,713.

States also have one designated point of contact responsible for aggregating information and submitting the state response. The recordkeeping burden is calculated below:

Table 2—Recordkeeping B
Instrument | Total number of respondents | Total number of responses per respondent | Average burden hours per response | Total/annual burden hours
NAC Recommendations and State Self-Assessment Survey | 50 | 1 | 40 | 2,000
Estimated Recordkeeping Burden Totals |  |  |  | 2,000

Estimated Total Annual Recordkeeping Burden Hours: 2,000.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Pub. L. 113-183.

Mary B. Jones,
ACF/OPRE Certifying Officer.

[FR Doc. 2021-17236 Filed 8-11-21; 8:45 am]

BILLING CODE 4184-47-P